SMALL BUSINESS ADMINISTRATION

[Disaster Declaration #10852 and #10853]

New York Disaster Number NY-00045

AGENCY: U.S. Small Business Administration.

ACTION: Amendment 2.

SUMMARY: This is an amendment of the Presidential declaration of a major disaster for the State of New York (FEMA-1692-DR), dated 04/24/2007.

Incident: Severe Storms and Inland and Coastal Flooding.

Incident Period: 04/14/2007 through 04/18/2007.

Effective Date: 05/09/2007.

Physical Loan Application Deadline Date: 06/25/2007.

EIDL Loan Application Deadline Date: 01/24/2008.

ADDRESSES: Submit completed loan applications to: U.S. Small Business Administration, Processing And Disbursement Center, 14925 Kingsport Road For, Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of New York , dated 04/24/2007 is hereby amended to include the following areas as adversely affected by the disaster:

Primary Counties: Ulster.

Contiguous Counties: New York, and Delaware.

All other information in the original declaration remains unchanged.

(Catalog of Federal Domestic Assistance Numbers 59002 and 59008)

Herbert L. Mitchell,
Associate Administrator for Disaster Assistance.

[FR Doc. E7-9489 Filed 5-16-07; 8:45 am]

BILLING CODE 8025-01-P